DEPARTMENT OF COMMERCE

National Oceanic and Atmospheric Administration

RIN 0648-XG169

Notice of Availability of a NOAA Satellite Observing System Architecture Study Draft Report and Public Meeting

AGENCY: National Oceanic and Atmospheric Administration (NOAA), Commerce.

ACTION: Notice of availability of a NOAA Satellite Observing System Architecture Study draft report; request for comments; public meeting.

SUMMARY: In planning for the future operational environmental satellite system to follow the Geostationary Operational Environmental Satellite System—R Series (GOES-R, S, T, and U) and the Joint Polar Satellite System (JPSS-1, 2, 3, and 4), beginning about 2028, NOAA has conducted a study of the NOAA Satellite Observing System Architecture (NSOSA). The development of a future system presents an opportunity to design a modern architecture by broadly examining instruments, services, platforms, and orbits, driven by user needs, new technology, and exploiting emerging space business models. The NSOSA study team developed and evaluated nearly 100 architecture alternatives, including partner and commercial contributions that are likely to become available. Through https://www.regulations.gov/docket?D=NOAA-NESDIS-2018-0053, the public can view the NOAA Satellite Observing System Architecture Study draft report, submit ideas, review submissions from other parties, and make comments.

All comments are welcome. In particular, NOAA would like comments on the following areas:

Did NOAA consider a sufficiently broad range of alternatives?

Are the opportunities that the analysis identified as deserving of consideration consistent with your knowledge of the state of the space enterprise?

Are there outcomes or options that you recommend for further analysis?

What suggestions do you have on engagement with industry, including innovative capability development approaches, partnership opportunities, and business models that may inform NOAA's path forward?

What suggestions do you have on engagement with the academic and research community and other stakeholders to ensure NOAA makes the best use of the outputs of this study?

NOAA previously discussed the NSOSA study at the American Meteorological Society Annual Meeting in January 2018; these presentations are available at https://ams.confex.com/ams/98Annual/meetingapp.cgi/Session/44459 and https://ams.confex.com/ams/98Annual/meetingapp.cgi/Session/44460. NOAA will continue to engage the public regarding NOAA's future satellite architecture planning. NOAA will use the results of this public comment period and public event to shape follow-on engagements.

DATES: Comments must be received by 5 p.m. on July 2, 2018. A meeting will be held on June 21, 2018. For additional details, see SUPPLEMENTARY INFORMATION.

ADDRESSES: You may submit comments on this document, identified by NOAA-NESDIS-2018-0053, by either of the following methods:

Electronic Submission: Submit all electronic public comments via the Federal e-Rulemaking Portal. Go to https://www.regulations.gov/docket?D=NOAA-NESDIS-2018-0053, click the “Comment Now!” icon, complete the required fields, and enter or attach your comments.

Mail: Submit written comments to: Office of System Architecture and Advance Planning, U.S. Department of Commerce, National Oceanic and Atmospheric Administration, National Environmental Satellite, Data, and Information Service, Room 5450, 1335 East-West Highway, Silver Spring MD, 20910.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. Additional information as well as instructions on how to submit comments can be found at the following website: https://www.regulations.gov/docket?D=NOAA-NESDIS-2018-0053. The NOAA Satellite Observing System Architecture Study report can also be viewed here.

FOR FURTHER INFORMATION CONTACT: Kate Becker, NESDIS Office of System Architecture and Advance Planning (OSAAP), U.S. Department of Commerce, National Oceanic and Atmospheric Administration, National Environmental Satellite, Data, and Information Service, Room 5450, 1335 East West Highway, Silver Spring, MD, 20910. (Phone: 301-713-7049, kate.becker@noaa.gov).

SUPPLEMENTARY INFORMATION: NESDIS will hold a public event to discuss the NOAA Satellite Observing System Architecture Study report on June 21, 2018, at 9:00 a.m. at the Silver Spring Civic Building, 1 Veterans Pl, Silver Spring, MD 20910. This Community Day will include a public session and the opportunity for one-on-one meetings with NESDIS. Further information and registration is available at https://www.nesdis.noaa.gov/content/nesdis-community-engagements or by contacting OSAAP by mail, phone, or email as listed above (see ADDRESSES).

Dated: May 24, 2018.
Karen St. Germain,
Director, Office of Systems Architecture and Advance Planning NOAA Satellite and Information Service.

[FR Doc. 2018-11599 Filed 5-30-18; 8:45 am]

BILLING CODE 3510-HR-P